DEPARTMENT OF ENERGY

Federal Energy Regulatory Commission

[Docket No. CP20-508-000]

Cimarron River Pipeline, LLC, Ladder Creek LLC; Notice of Application

Take notice that on August 7, 2020, Cimarron River Pipeline, LLC (Cimarron), 370 17th Street, Suite 2500, Denver, Colorado 80202, and Ladder Creek LLC (Ladder Creek), 41707 County Road P, Cheyenne Wells, Colorado 80810 (jointly, the Applicants), filed in Docket No. CP20-508-000, an application pursuant to section 7(b) of the Natural Gas Act (NGA) requesting authorization for its proposed Tekas Pipeline Abandonment Project (Project). Specifically, Cimarron proposes to: (1) Abandon the Tekas Pipeline system, which is an independent, noncontiguous portion of Cimarron's interstate pipeline operations, by transfer to Ladder Creek; (2) find that, upon transfer, the bulk of the Tekas Pipeline System will be performing non-jurisdictional natural gas gathering activities; and (3) issue a certificate of public convenience and necessity to Ladder Creek pursuant to NGA section 7(c) to own, operate, and maintain the Ladder Creek Residue Line located near the Colorado-Kansas border that delivers natural gas processed at the Ladder Creek Processing Plant to Colorado Interstate Gas Company, L.L.C. (CIG). The Applicants also request that the Commission determine that, in light of the fact that Ladder Creek will operate the Ladder Creek Residue Line for the sole purpose of transporting gas owned by Ladder Creek to CIG, Ladder Creek qualifies for waivers of those aspects of the Commission's interstate gas pipeline regulatory program that have routinely been afforded to jurisdictional plant residue lines that do not carry third-party gas.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Any questions concerning this application may be directed to Douglas F. John, Counsel for Ladder Creek, John & Hengerer LLP, 1629 K Street NW, Suite 402, Washington, DC 20006, by phone (202) 429-8801; and Daniel P. Archuleta, Counsel for Cimarron, Troutman Pepper Hamilton Sander LLP, 401 9th Street NW, Suite 1000, Washington, DC 20004, by phone (202) 274-2926.

Pursuant to section 157.9 of the Commission's rules (18 CFR 157.9), within 90 days of this Notice, the Commission staff will either: Complete its environmental assessment (EA) and place it into the Commission's public record (eLibrary) for this proceeding or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new NGA section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Standard Time on September 10, 2020.

Dated: August 20, 2020.
Kimberly D. Bose,
Secretary.

[FR Doc. 2020-18734 Filed 8-25-20; 8:45 am]

BILLING CODE 6717-01-P